NORTHEAST DAIRY COMPACT COMMISSION

Notice of Meeting

AGENCY: Northeast Dairy Compact Commission.

ACTION: Notice of meeting.

SUMMARY: The Compact Commission will hold its regular monthly meeting to consider matters relating to administration and enforcement of the price regulation, including the reports and recommendations of the Commission's standing Committees.

DATES: The meeting will begin at 10:00 a.m. on Wednesday, November 1, 2000.

ADDRESSES: The meeting will be held at the Centennial Inn, Armenia White Room, 96 Pleasant Street, Concord, New Hampshire.

FOR FURTHER INFORMATION CONTACT: Daniel Smith, Executive Director, Northeast Dairy Compact Commission, 34 Barre Street, Suite 2, Montpelier, VT 05602. Telephone (802) 229-1941.

Authority: 7 U.S.C. 7256.

Dated: October 16, 2000.
Daniel Smith,
Executive Director.

[FR Doc. 00-26973 Filed 10-19-00; 8:45 am]

BILLING CODE 1650-01-M